DEPARTMENT OF TRANSPORTATION

Pipeline and Hazardous Materials Safety Administration

Notice of Applications for Modification of Special Permits

AGENCY: Pipeline and Hazardous Materials Safety Administration (PHMSA), DOT.

ACTION: List of Applications for Modification of Special Permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before June 3, 2011.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION: Copies of the applications are available for inspection in the Records Center, East Building, PHH-30, 1200 New Jersey Avenue, SE., Washington, DC or at http://www.regulations.gov.

This notice of receipt of applications for modification of special permits is published in accordance with Part 107 of the Federal hazardous materials transportation law (49 U.S.C. 5117(b); 49 CFR 1.53(b)).

Issued in Washington, DC, on May 11, 2011.
Donald Burger,
Chief, Special Permits and Approvals Branch.

Modification of Special Permits

Application No. | Docket No. | Applicant | Regulation(s) affected | Nature of special permit thereof
10646-M |  | Schlumberger Technologies Corporation, Sugar Land, TX | 49 CFR 173.302 | To modify the special permit to authorize an additional material in the construction of non-DOT specification cylinders.
10698-M |  | Worthington Cylinders, Chilton, WI | 49 CFR 173.304(a)(2); 178.50 | To modify the special permit to authorize additional Division 2.2 materials.
11924-M |  | Packgen Corporation, Auburn, ME | 49 CFR 173.12(b)(2)(i) | To modify the special permit to authorize an additional non-bulk packaging.
14457-M |  | Amtrol Alfa Metalomecanica SA, Portugal | 49 CFR 173.304a(a)(1) | To modify the special permit to extend the external visual inspection to every five (5) years.
15097-M |  | U.S. Consumer Product Safety Commission, Denver, CO | 49 CFR 173.56 | To reissue the special permit originally issued on an emergency basis for the transportation of unapproved fireworks to the CPSC laboratory in Gaithersburg, MD for testing.

[FR Doc. 2011-12147 Filed 5-18-11; 8:45 am]

BILLING CODE 4909-60-M